DEPARTMENT OF ENERGY

Federal Energy Regulatory Commission

Combined Notice of Filings #1

Take notice that the Commission received the following exempt wholesale generator filings:

Docket Numbers: EG22-129-000.

Applicants: Sierra Energy Storage, LLC.

Description: Sierra Energy Storage, LLC submits Notice of Self-Certification of Exempt Wholesale Generator Status.

Filed Date: 5/23/22.

Accession Number: 20220523-5103.

Comment Date: 5 p.m. ET 6/13/22.

Take notice that the Commission received the following electric rate filings:

Docket Numbers: ER20-686-003.

Applicants: Tri-State Generation and Transmission Association, Inc.

Description: Refund Report: Refund Report for OATT Settlement to be effective N/A.

Filed Date: 5/23/22.

Accession Number: 20220523-5109.

Comment Date: 5 p.m. ET 6/13/22.

Docket Numbers: ER20-1075-003.

Applicants: California Independent System Operator Corporation.

Description: Compliance filing: 2022-05-23 Compliance Filing—CPM Soft Offer Cap to be effective 4/22/2022.

Filed Date: 5/23/22.

Accession Number: 20220523-5119.

Comment Date: 5 p.m. ET 6/13/22.

Docket Numbers: ER21-2381-002.

Applicants: Wisconsin Electric Power Company.

Description: Tariff Amendment: Amendment to Formula Rate Update Filing to be effective 9/7/2021.

Filed Date: 5/23/22.

Accession Number: 20220523-5068.

Comment Date: 5 p.m. ET 6/13/22.

Docket Numbers: ER22-1518-001.

Applicants: Laurel Mountain BESS, LLC.

Description: Tariff Amendment: Laurel Mountain BESS, LLC MBR Tariff to be effective 4/1/2022.

Filed Date: 5/20/22.

Accession Number: 20220520-5198.

Comment Date: 5 p.m. ET 6/10/22.

Docket Numbers: ER22-1931-000.

Applicants: Tri-State Generation and Transmission Association, Inc.

Description: § 205(d) Rate Filing: Amendment to Service Agreement FERC No. 803 to be effective 4/29/2022.

Filed Date: 5/20/22.

Accession Number: 20220520-5200.

Comment Date: 5 p.m. ET 6/10/22.

Docket Numbers: ER22-1932-000.

Applicants: Public Service Company of Colorado.

Description: Tariff Amendment: 2022-05-xx PSCo-Sun Mtn Solar-E&P-630-NOC-0.1.0 to be effective 5/21/2022.

Filed Date: 5/20/22.

Accession Number: 20220520-5202.

Comment Date: 5 p.m. ET 6/10/22.

Docket Numbers: ER22-1933-000.

Applicants: Entergy Arkansas, LLC.

Description: § 205(d) Rate Filing: Updated LBA Agreement to be effective 7/19/2022.

Filed Date: 5/20/22.

Accession Number: 20220520-5203.

Comment Date: 5 p.m. ET 6/10/22.

Docket Numbers: ER22-1934-000.

Applicants: Elephant Energy, LLC.

Description: Notice of Cancellation of Market Based Rate Tariff of Elephant Energy, LLC.

Filed Date: 5/20/22.

Accession Number: 20220520-5261.

Comment Date: 5 p.m. ET 6/10/22.

Docket Numbers: ER22-1935-000.

Applicants: Tri-State Generation and Transmission Association, Inc.

Description: Tariff Amendment: Notice of Cancellation of Service Agreement No. 859 to be effective 5/1/2021.

Filed Date: 5/23/22.

Accession Number: 20220523-5054.

Comment Date: 5 p.m. ET 6/13/22.

Docket Numbers: ER22-1936-000.

Applicants: Tri-State Generation and Transmission Association, Inc.

Description: Tariff Amendment: Notice of Cancellation of Service Agreement No. 865 to be effective 7/22/2022.

Filed Date: 5/23/22.

Accession Number: 20220523-5055.

Comment Date: 5 p.m. ET 6/13/22.

Docket Numbers: ER22-1937-000.

Applicants: Midcontinent Independent System Operator, Inc., Wabash Valley Power Association, Inc.

Description: § 205(d) Rate Filing: Midcontinent Independent System Operator, Inc. submits tariff filing per 35.13(a)(2)(iii: 2022-05-23_SA 3832 WVPA-PPI TIA to be effective 4/23/2022.

Filed Date: 5/23/22.

Accession Number: 20220523-5059.

Comment Date: 5 p.m. ET 6/13/22.

Docket Numbers: ER22-1938-000.

Applicants: Alabama Power Company, Georgia Power Company, Mississippi Power Company, Southern Power Company.

Description: § 205(d) Rate Filing: Alabama Power Company submits tariff filing per 35.13(a)(2)(iii: Amendment to Southern's Tariff Vol. No. 4 (Gulf Exiting Pool) to be effective 12/31/9998.

Filed Date: 5/23/22.

Accession Number: 20220523-5070.

Comment Date: 5 p.m. ET 6/13/22.

Docket Numbers: ER22-1939-000.

Applicants: Appalachian Power Company, Indiana Michigan Power Company, Ohio Power Company, Kentucky Power Company, PJM Interconnection, L.L.C.

Description: § 205(d) Rate Filing: Appalachian Power Company submits tariff filing per 35.13(a)(2)(iii: AEPSC-KPCo TO-TO IA No. 6463 to be effective 12/31/9998.

Filed Date: 5/23/22.

Accession Number: 20220523-5072.

Comment Date: 5 p.m. ET 6/13/22.

Docket Numbers: ER22-1940-000.

Applicants: American Electric Power Service Corporation, Appalachian Power Company, Kentucky Power Company, PJM Interconnection, L.L.C.

Description: § 205(d) Rate Filing: American Electric Power Service Corporation submits tariff filing per 35.13(a)(2)(iii: AEP submits two ILDSAs, SA No. 6458 and 6459 to be effective 12/31/9998.

Filed Date: 5/23/22.

Accession Number: 20220523-5089.

Comment Date: 5 p.m. ET 6/13/22.

Docket Numbers: ER22-1941-000.

Applicants: Southwest Power Pool, Inc.

Description: § 205(d) Rate Filing: 1518R23 Arkansas Electric Cooperative Corp NITSA NOA to be effective 8/1/2022.

Filed Date: 5/23/22.

Accession Number: 20220523-5091.

Comment Date: 5 p.m. ET 6/13/22.

Docket Numbers: ER22-1942-000.

Applicants: PJM Interconnection, L.L.C.

Description: § 205(d) Rate Filing: Original ISA, Service Agreement No. 6445; Queue No. AE2-211/AF1-057 to be effective 4/21/2022.

Filed Date: 5/23/22.

Accession Number: 20220523-5098.

Comment Date: 5 p.m. ET 6/13/22.

Docket Numbers: ER22-1943-000.

Applicants: Chanarambie Power Partners, LLC.

Description: Tariff Amendment: Notice of Cancellation of FERC Electric Tariff No. 1 and Tariff ID to be effective 5/24/2022.

Filed Date: 5/23/22.

Accession Number: 20220523-5131.

Comment Date: 5 p.m. ET 6/13/22.

Docket Numbers: ER22-1944-000.

Applicants: PacifiCorp.

Description: § 205(d) Rate Filing: BPA Loss Settlement Agreement to be effective 4/27/2022.

Filed Date: 5/23/22.

Accession Number: 20220523-5132.

Comment Date: 5 p.m. ET 6/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2022.
Kimberly D. Bose,
Secretary.

[FR Doc. 2022-11442 Filed 5-26-22; 8:45 am]

BILLING CODE 6717-01-P